FEDERAL ELECTION COMMISSION

[NOTICE 2025-03]

Notice of Designation of Policy-Making Positions

AGENCY: Federal Election Commission.

ACTION: Notice of designation of policy-making positions.

SUMMARY: As mandated by an executive order, the Federal Election Commission (the “Commission”) is designating certain positions as the Agency's confidential, policy-determining, policy-making, or policy-advocating positions. Additional details appear in the Supplemental Information that follows.

DATES: April 10, 2025.

ADDRESSES: 1050 First Street NE, Washington, DC 20463.

FOR FURTHER INFORMATION CONTACT: Greg Baker, Office of General Counsel, 1050 First Street NE, Washington, DC 20463, (202) 694-1650 or (800) 424-9530.

SUPPLEMENTARY INFORMATION: On January 20, 2025, the President issued Executive Order 14171 (90 FR 8625 (Jan. 31, 2025)), reinstating and amending Executive Order 13957. 85 FR 67631 (Oct. 21, 2020). The latter, as amended, directs agencies to conduct a review of agency positions and, “for positions excepted from the competitive service by statute, determine which such positions are of a confidential, policy-determining, policy-making, or policy-advocating character and are not normally subject to change as a result of a Presidential transition.” Id. at 67633. Agencies were further directed to “publish this determination in the Federal Register.” Id.

Accordingly, the Commission is designating the following positions as the Agency's confidential, policy-determining, policy-making, or policy-advocating positions, under the definition presumed by Executive Order 14171: the Staff Director, the General Counsel, the Inspector General, and the Director of Congressional and Intergovernmental Affairs.

On behalf of the Commission,
Dated: April 3, 2025.
On behalf of the Commission.
James E. Trainor,
Acting Chairman, Federal Election Commission.

[FR Doc. 2025-06112 Filed 4-9-25; 8:45 am]

BILLING CODE 6715-01-P